DEPARTMENT OF VETERANS AFFAIRS

[OMB Control No. 2900-NEW]

Agency Information Collection Activity Under OMB Review: PACT: Veteran's Health and Well-Being

AGENCY: Veterans Health Administration, Department of Veterans Affairs.

ACTION: Notice.

SUMMARY: In compliance with the Paperwork Reduction Act (PRA) of 1995, this notice announces that the Veterans Health Administration (VHA), Department of Veterans Affairs, will submit the collection of information abstracted below to the Office of Management and Budget (OMB) for review and comment. The PRA submission describes the nature of the information collection and its expected cost and burden; it includes the actual data collection instrument.

DATES: Comments must be submitted on or before May 26, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-NEW” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-NEW.”

SUPPLEMENTARY INFORMATION:

Authority: 44 U.S.C. 3501-3521.

Titles: PACT: Veteran's Health and Well-Being.

OMB Control Number: 2900-NEW.

Type of Review: New collection.

Abstract: The purpose of the study, which is funded by the PACT Demonstration Lab Coordinating Center, is to conduct a survey of Veterans to capture novel predictors of hospital admission and identify clusters of complex patients based on survey- and claims-based covariates. This study provides the first empirical application of the Cycle of Complexity conceptual model that the study team developed and recently published, which postulates that patient complexity represents more than having multiple chronic conditions. It is critical to evaluate whether complexity defined on the basis of survey-based and claims-based covariates is more predictive than diagnosis of multiple chronic conditions based on claims data alone.

The proposed patient survey is designed to measure a broad range of self-reported patient factors that increase Veterans' risk for being admitted to hospital, including life stressors, perceived locus of control, grit, resilience, functional status, social support and loneliness, sleep problems, symptoms, food insecurity, and patient activation. This survey will help us understand, for the first time, the extent to which self-reported factors can markedly improve prediction of patient risk for hospital admission, which may help the PACT Demonstration Lab Coordinating Center Intelligence improve its risk prediction models. This project may also identify patient-reported outcomes (PROs) that can be effectively integrated into routine VA clinical practice, as the VA begins to explore inclusion of PROs into the VA electronic health record. We are requesting approval to conduct this survey to a nationally representative sample of 10,000 patients who obtain primary care in VA because there are no extant VA surveys that capture the range of patient factors that we propose to collect, which are not available in VA administrative databases. If we did not capture these patient factors, our risk prediction analysis might be incorrect or biased.

An agency may not conduct or sponsor, and a person is not required to respond to a collection of information unless it displays a currently valid OMB control number. The Federal Register Notice with a 60-day comment period soliciting comments on this collection of information was published on Thursday, January 26, 2017, Volume 82, No. 16, pages 8563-8564.

Affected Public: Individuals or households.

Estimated Annual Burden: 2500.

Estimated Average Burden per Respondent: 30 minutes.

Frequency of Response: Annually.

Estimated Annual Responses: 5,000.

By direction of the Secretary.
Cynthia Harvey-Pryor,
Department Clearance Officer, Enterprise Records Service, Office of Quality and Compliance, Department of Veterans Affairs.

[FR Doc. 2017-08442 Filed 4-25-17; 8:45 am]

BILLING CODE 8320-01-P